DEPARTMENT OF TRANSPORTATION

Federal Railroad Administration

49 CFR Parts 233, 235 and 236

[FRA Docket No. RSSI-1; Notice No. 2]

RIN 2130—AB06; 2130—AB05

Signal and Train Control; Miscellaneous Amendments

AGENCY: Federal Railroad Administration (FRA), Department of Transportation (DOT).

ACTION: Final Rule.

SUMMARY: On May 30, 1996, FRA, by issuing an Interim Final Rule, amended FRA's signal system reporting requirements to reduce signal system reporting burdens on the rail industry. At that time FRA also amended its regulations governing applications for approval of discontinuance or material modification of a signal system and also consolidated certain pneumatic valve cleaning and testing intervals to eliminate overlapping and unnecessary test schedules. This document discusses comments received in response to the notice of Interim Final Rule and adopts the Interim Final Rule as a permanent final rule.

EFFECTIVE DATE: This regulation is effective September 28, 2001.

FOR FURTHER INFORMATION CONTACT: William Goodman, Staff Director, Signal and Train Control, Office of Safety, FRA, 400 Seventh Street, SW., Washington, DC 20590 (telephone 202-493-6325), or Mark Tessler, Office of Chief Counsel, FRA, 400 Seventh Street, SW., Washington, DC 20590 (telephone 202-493-6061).

SUPPLEMENTARY INFORMATION:

Background

On July 1, 1996, FRA published an Interim Final Rule (61 FR 33871) in which the agency made minor changes in reporting requirements. FRA solicited comments on the interim final rule and stated that those comments would be considered in determining whether there would be a need to take further action to improve these regulations.

FRA received comments from three parties: the Brotherhood of Railroad Signalmen (BRS), Association of American Railroads (AAR); and Consolidated Rail Corporation (Conrail). All commenters were in general agreement that the regulatory changes were beneficial, however they provided various comments regarding certain provisions.

Section By Section Analysis

Section 233.9 Signal System Reporting Requirements

The Signal Systems Annual Report has historically been used to monitor changes in the types of signal systems installed on the nation' s railroads. Based on its regulatory review, FRA concluded that the signal system information base could be maintained while at the same time the reporting burden imposed on railroads could be reduced. FRA concluded that the information provided by this report does not need to be updated annually. FRA therefore amended this section to provide for filing of signal system reports every five years rather than on an annual basis, as was previously required. This more realistic time frame will reduce the reporting burden to the industry while maintaining an adequate information base. FRA also revised the information to be reported in order to reflect technological changes and FRA information needs. There was no opposition to this section.

Section 235.7 Changes Not Requiring Filing of Application

Section 235.7 specifies those modifications to railroad signal systems that can be made by a railroad without the necessity of filing an application for FRA approval. Section 235.7(c)(24) provides that it is not necessary to file an application for approval for the installation, relocation, or removal of signals, interlocked switches, derails, movable-point frogs, or electric locks in an existing system directly associated with the installation of new track; the elimination of existing track other than a second main track; the extension or shortening of a passing siding; elimination of second main track in certain stated circumstances or a line relocation. FRA added to this list of changes not requiring pre-approval from FRA the conversion of pole line circuits to electronic (coded) track circuits provided that the railroad gives notice and a profile plan of the change to the FRA regional office having jurisdiction over that territory at least 60 days in advance of the change. In addition, the amendment requires the railroad to also provide a copy of the notice and profile plan to representatives of employees responsible for maintenance, inspection and testing of the signal system under 49 CFR part 236.

The AAR, while it “appreciates any efforts by government to reduce reporting burdens on railroads,” questioned the wisdom of being required to provide a copy of the advance notice to representatives of employees responsible for maintenance, inspection and testing of the signal system. The industry trade association stated, “since the union is only one of the several stakeholders in the signal system partnership, AAR questions the appropriateness of its being singled out for special treatment by FRA in the rule.”

FRA notes that no other stakeholder objected to this provision, nor did the AAR suggest that any specific stakeholder receive such notices. Signal maintainers on the line of railroad planning such work are in a perhaps unique position, with a valuable perspective to offer regarding the signal changes. Their involvement in signal modification and discontinuance proceedings in the past has provided valuable insight to FRA—insights that FRA is not willing to lose in its effort to ease reporting burdens on railroads.

Conrail expressed the opinion that the changes to this section do not go far enough. Conrail states that: “[p]ole line carrying signal control circuits can be replaced by a number of systems to carry vital signal information between locations. Such systems in use and being installed on Conrail today include: electronic track circuits carrying encoded information, conventional AC or DC coded track circuits, underground buried cable, and polar track circuits * * *.” Conrail therefore asked that FRA amend the rule to provide relief from filing an application to re-space signals when open wire signal pole line is replaced with the noted systems, including “future technologies performing the same function.” FRA notes that the rule changes will not necessarily prevent railroad use of other systems to replace pole line, however, such replacement will continue to require FRA review and approval. FRA will continue to review the use of other systems and new technologies as they develop, and will amend its procedures when it can be assured that use of other systems can be implemented safely without the necessity of FRA review. Therefore, FRA is making no change to the rule.

Section 236.590 Pneumatic apparatus.

FRA amended 49 CFR 236.590 to provide that the inspection and cleaning time interval requirements for pneumatic apparatus (automatic train stop, automatic train control or automatic cab signal pneumatic apparatus) be governed by the air brake testing intervals established in 49 CFR 229.29 rather than the requirements of this section that required that inspection and cleaning at least once every 736 days. Although section 229.29 also requires a 736-day test interval, due to existing waivers, the testing and cleaning intervals for air brake systems and pneumatic systems on many locomotives do not coincide. By conforming the requirements of section 236.590 to those of 49 CFR 229.29, any changes in inspection and testing intervals or recordkeeping requirements made to air brake systems will automatically apply to pneumatic train control valves on similar types of locomotive.

In addition to the above changes, FRA also provided “out of service” credit that is applied to air brake systems under 49 CFR 229.33 to train control systems under 49 CFR 235.590. When a locomotive with automatic train stop, train control, or cab signal pneumatic apparatus receives out-of-use credit pursuant to § 229.33, the automatic train stop, train control, or cab signal apparatus must be tested in accordance with § 236.588 prior to the locomotive being placed in service. This further conforms the two sets of testing and maintenance requirements. All commenters supported this provision.

Executive Order 12866 and DOT Regulatory Policies and Procedures

These amendments have been evaluated in accordance with existing policies and procedures and because they are primarily technically oriented and generally reduce the regulatory burden on railroads, FRA has concluded that the revisions do not constitute significant rule under either Executive Order 12866 or DOT's regulatory policies and procedures.

Regulatory Flexibility Act

The Regulatory Flexibility Act of 1980 (5 U.S.C. 601 et seq.) requires a review of rules to assess their impact on small entities. FRA certifies that this rule will not have a significant impact on a substantial number of small entities. There are no substantial economic impacts for small units of government, businesses, or other organizations.

Paperwork Reduction Act

These amendments reduce information collection requirements and therefore reduce reporting burdens imposed on railroads.

Environmental Impact

FRA has evaluated these regulations in accordance with its procedure for ensuring full consideration of the potential environmental impacts of FRA actions, as required by the National Environmental Policy Act (42 U.S.C. 4321 et seq.) and related directives. FRA has determined that this final rule is not a major FRA action requiring the preparation of an environmental impact statement or environmental assessment.

Federalism

FRA believes it is in compliance with Executive Order 13132. This final rule will not have a substantial effect on the States, on the relationship between the national government and the States, or on the distribution of power and responsibilities among the various levels of government. This final rule will not have federalism implications that impose substantial direct compliance costs on State and local governments.

Environmental Impact

FRA has evaluated these regulations in accordance with its procedure for ensuring full consideration of the potential environmental impacts of FRA actions, as required by the National Environmental Policy Act and related directives. FRA has determined that the amendment of Parts 233, 235 and 236 of Title 49 of the CFR does not constitute a major FRA action requiring an environmental assessment.

List of Subjects

49 CFR Part 233

Railroad safety, Reporting and recordkeeping requirements.

49 CFR Part 235

Administrative practice and procedure, Railroad safety, Reporting and recordkeeping requirements.

49 CFR Part 236

Railroad safety, Reporting and recordkeeping requirements.

The Rule

In consideration of the foregoing, the interim final rule amending 49 CFR parts 233, 235, and 236 which was published at 61 FR 33871 on July 1, 1996, is adopted as a final rule without change.

Issued in Washington, DC on September 19, 2001.
Allan Rutter,
Federal Railroad Administrator.

[FR Doc. 01-24243 Filed 9-27-01; 8:45 am]

BILLING CODE 4910-06-P